DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them. Additionally, OFAC is publishing updates to the identifying information of one person currently included on the SDN List.

DATES: See Supplementary Information section for effective date(s).

FOR FURTHER INFORMATION CONTACT: OFAC: Bradley T. Smith, Director, tel.: 202-622-2490; Associate Director for Global Targeting, tel.: 202-622-2420; Assistant Director for Licensing, tel.: 202-622-2480; Assistant Director for Regulatory Affairs, tel.: 202-622-4855; or the Assistant Director for Compliance, tel.: 202-622-2490.

SUPPLEMENTARY INFORMATION:

Electronic Availability

The SDN List and additional information concerning OFAC sanctions programs are available on OFAC's website (https://www.treasury.gov/ofac).

Notice of OFAC Actions

A. On November 30, 2023, OFAC determined that the property and interests in property subject to U.S. jurisdiction of the following persons are blocked under the relevant sanctions authority listed below.

Individuals

1. ALVARADO RUBIO, Teresa De Jesus, Puerto Vallarta, Jalisco, Mexico; DOB 27 Oct 1972; POB Puerto Vallarta, Jalisco, Mexico; nationality Mexico; Gender Female; C.U.R.P. AART721027MJCLBR09 (Mexico) (individual) [ILLICIT-DRUGS-EO14059].

Designated pursuant to section 1(b)(iii) of Executive Order 14059 of December 15, 2021, “Imposing Sanctions on Foreign Persons Involved in the Global Illicit Drug Trade,” 86 FR 71549 (December 17, 2021) (E.O. 14059) for being owned, controlled, or directed by, or having acted or purported to act for or on behalf of, directly or indirectly, Cartel de Jalisco Nueva Generacion (CJNG), a person sanctioned pursuant to E.O. 14059.

2. DEL VILLAR CONTRERAS, Gabriela, Puerto Vallarta, Jalisco, Mexico; DOB 06 Oct 1984; POB Chihuahua, Chihuahua, Mexico; nationality Mexico; Gender Female; R.F.C. VICG841006F31 (Mexico); C.U.R.P. VICG841006MCHLNB04 (Mexico) (individual) [ILLICIT-DRUGS-EO14059].

Designated pursuant to section 1(b)(iii) of E.O. 14059 for being owned, controlled, or directed by, or having acted or purported to act for or on behalf of, directly or indirectly, CJNG, a person sanctioned pursuant to E.O. 14059.

3. FOUBERT CADENA, Manuel Alejandro, Puerto Vallarta, Jalisco, Mexico; Leon, Guanajuato, Mexico; DOB 16 Oct 1982; POB Guadalajara, Jalisco, Mexico; nationality Mexico; Gender Male; C.U.R.P. FOCM821016HJCBDN02 (Mexico) (individual) [ILLICIT-DRUGS-EO14059].

Designated pursuant to section 1(b)(iii) of E.O. 14059 for being owned, controlled, or directed by, or having acted or purported to act for or on behalf of, directly or indirectly, CJNG, a person sanctioned pursuant to E.O. 14059.

Entities

1. ASSIS REALTY AND VACATION CLUB, S.A. DE C.V., Puerto Vallarta, Jalisco, Mexico; Organization Established Date 16 Feb 2018; Organization Type: Real estate activities with own or leased property [ILLICIT-DRUGS-EO14059].

Designated pursuant to section 1(b)(iii) of E.O. 14059 for being owned, controlled, or directed by, or having acted or purported to act for or on behalf of, directly or indirectly, Manuel Alejandro Foubert Cadena, a person sanctioned pursuant to E.O. 14059.

2. AXIS SALE & MAINTENANCE BUILDINGS, S.A. DE C.V. (a.k.a. AXIS SALE AND MAINTENANCE BUILDINGS, S.A. DE C.V.), Puerto Vallarta, Jalisco, Mexico; Organization Established Date 16 Feb 2018; Organization Type: Real estate activities with own or leased property [ILLICIT-DRUGS-EO14059].

Designated pursuant to section 1(b)(iii) of E.O. 14059 for being owned, controlled, or directed by, or having acted or purported to act for or on behalf of, directly or indirectly, Manuel Alejandro Foubert Cadena, a person sanctioned pursuant to E.O. 14059.

3. BANLU COMERCIALIZADORA, S.A. DE C.V. (a.k.a. CEAR GYM; a.k.a. CENTRO DE ENTRENAMIENTO SEAR), Calle Jilguero 171, Fraccionamiento Los Sauces, Puerto Vallarta, Jalisco 48328, Mexico; Calle Volcan Popocatepetl 5250, Col. El Colli Urbano, Zapopan, Jalisco 45070, Mexico; Organization Type: Non-specialized wholesale trade; alt. Organization Type: Activities of sports clubs; R.F.C. BCO150928QF3 (Mexico); Folio Mercantil No. 92027 (Mexico) [ILLICIT-DRUGS-EO14059].

Designated pursuant to section 1(b)(iii) of E.O. 14059 for being owned, controlled, or directed by, or having acted or purported to act for or on behalf of, directly or indirectly, Gabriela Del Villar Contreras, a person sanctioned pursuant to E.O. 14059.

4. COMERCIALIZADORA DE SERVICIOS TURISTICOS DE VALLARTA, S.A. DE C.V., Puerto Vallarta, Jalisco, Mexico; Organization Established Date 09 May 2007; Organization Type: Real estate activities with own or leased property; Folio Mercantil No. 14080 (Mexico) [ILLICIT-DRUGS-EO14059].

Designated pursuant to section 1(b)(iii) of E.O. 14059 for being owned, controlled, or directed by, or having acted or purported to act for or on behalf of, directly or indirectly, Manuel Alejandro Foubert Cadena, a person sanctioned pursuant to E.O. 14059.

5. CONDOS & VACATIONS BUILDINGS SALE & MAINTENANCE, S.A. DE C.V. (a.k.a. CONDOS AND VACATIONS BUILDINGS SALE AND MAINTENANCE, S.A. DE C.V.), Puerto Vallarta, Jalisco, Mexico; Organization Established Date 15 Oct 2016; Organization Type: Real estate activities with own or leased property; Folio Mercantil No. N-2016030167 (Mexico) [ILLICIT-DRUGS-EO14059].

Designated pursuant to section 1(b)(iii) of E.O. 14059 for being owned, controlled, or directed by, or having acted or purported to act for or on behalf of, directly or indirectly, Manuel Alejandro Foubert Cadena, a person sanctioned pursuant to E.O. 14059.

6. CROWLANDS, S.A. DE C.V., Guadalajara, Jalisco, Mexico; Organization Established Date 20 May 2019; Organization Type: Real estate activities with own or leased property; Folio Mercantil No. N-2019039320 (Mexico) [ILLICIT-DRUGS-EO14059].

Designated pursuant to section 1(b)(iii) of E.O. 14059 for being owned, controlled, or directed by, or having acted or purported to act for or on behalf of, directly or indirectly, Gabriela Del Villar Contreras, a person sanctioned pursuant to E.O. 14059.

7. GRUPO EMPRESARIAL EPTA, S.A. DE C.V. (a.k.a. GRUPO EPTA), Puerto Vallarta, Jalisco, Mexico; Leon, Guanajuato, Mexico; website www.grupoepta.com; Organization Established Date 14 Aug 2013; Organization Type: Management consultancy activities; Folio Mercantil No. 16378 (Mexico); alt. Folio Mercantil No. 68520 (Mexico) [ILLICIT-DRUGS-EO14059].

Designated pursuant to section 1(b)(iii) of E.O. 14059 for being owned, controlled, or directed by, or having acted or purported to act for or on behalf of, directly or indirectly, CJNG, a person sanctioned pursuant to E.O. 14059.

8. GRUPO MINERA BARRA PACIFICO, S.A.P.I. DE C.V., Leon, Guanajuato, Mexico; Organization Established Date 08 Feb 2021; Organization Type: Mining and Quarrying; Folio Mercantil No. N-2021024215 (Mexico) [ILLICIT-DRUGS-EO14059].

Designated pursuant to section 1(b)(iii) of E.O. 14059 for being owned, controlled, or directed by, or having acted or purported to act for or on behalf of, directly or indirectly, Manuel Alejandro Foubert Cadena, a person sanctioned pursuant to E.O. 14059.

9. INTERNATIONAL REALTY & MAINTENANCE, S.A. DE C.V. (a.k.a. INTERNATIONAL REALTY AND MAINTENANCE, S.A. DE C.V.), Puerto Vallarta, Jalisco, Mexico; Organization Established Date 15 Oct 2016; Organization Type: Real estate activities with own or leased property; Folio Mercantil No. N-2016030303 (Mexico) [ILLICIT-DRUGS-EO14059].

Designated pursuant to section 1(b)(iii) of E.O. 14059 for being owned, controlled, or directed by, or having acted or purported to act for or on behalf of, directly or indirectly, Manuel Alejandro Foubert Cadena, a person sanctioned pursuant to E.O. 14059.

10. MEGA COMERCIAL FERRELECTRICA, S.A. DE C.V., Guadalajara, Jalisco, Mexico; Organization Type: Non-specialized wholesale trade; Folio Mercantil No. 40660 (Mexico) [ILLICIT-DRUGS-EO14059].

Designated pursuant to section 1(b)(iii) of E.O. 14059 for being owned, controlled, or directed by, or having acted or purported to act for or on behalf of, directly or indirectly, Manuel Alejandro Foubert Cadena, a person sanctioned pursuant to E.O. 14059.

11. REAL ESTATES & HOLIDAY CITIES, S.A. DE C.V. (a.k.a. REAL ESTATES AND HOLIDAY CITIES, S.A. DE C.V.), Puerto Vallarta, Jalisco, Mexico; Organization Established Date 15 Oct 2016; Organization Type: Real estate activities with own or leased property; Folio Mercantil No. N-2016030106 (Mexico) [ILLICIT-DRUGS-EO14059].

Designated pursuant to section 1(b)(iii) of E.O. 14059 for being owned, controlled, or directed by, or having acted or purported to act for or on behalf of, directly or indirectly, Manuel Alejandro Foubert Cadena, a person sanctioned pursuant to E.O. 14059.

12. SKAIRU, S.A. DE C.V., Guadalajara, Jalisco, Mexico; Organization Established Date 20 Jun 2019; Organization Type: Real estate activities with own or leased property; Folio Mercantil No. N-2019049513 (Mexico) [ILLICIT-DRUGS-EO14059].

Designated pursuant to section 1(b)(iii) of E.O. 14059 for being owned, controlled, or directed by, or having acted or purported to act for or on behalf of, directly or indirectly, Gabriela Del Villar Contreras, a person sanctioned pursuant to E.O. 14059.

13. TERRA MINAS E INVERSIONES DEL PACIFICO, S.A.P.I. DE C.V., Guadalajara, Jalisco, Mexico; Organization Established Date 26 May 2021; Organization Type: Mining and Quarrying; Folio Mercantil No. N-2021047829 (Mexico) [ILLICIT-DRUGS-EO14059].

Designated pursuant to section 1(b)(iii) of E.O. 14059 for being owned, controlled, or directed by, or having acted or purported to act for or on behalf of, directly or indirectly, Manuel Alejandro Foubert Cadena, a person sanctioned pursuant to E.O. 14059.

B. On November 30, 2023, OFAC updated the entry on the SDN List for the following person, whose property and interests in property subject to U.S. jurisdiction continue to be blocked under the relevant sanctions authority listed below.

Individual

1. MONTERO PINZON, Julio Cesar (a.k.a. “EL TARJETAS”), Puerto Vallarta, Jalisco, Mexico; DOB 02 Jun 1982; POB Puerto Vallarta, Jalisco, Mexico; nationality Mexico; Gender Male; C.U.R.P. MOPJ820602HJCNNL05 (Mexico) (individual) [ILLICIT-DRUGS-E.O.].

-to-

MONTERO PINZON, Julio Cesar (a.k.a. HERNANDEZ JIMENEZ, Cesar; a.k.a. VELAZQUEZ BALTAZAR, Luis Armando; a.k.a. “Comandante Tarjetas”; a.k.a. “El Chess”; a.k.a. “El Chino”; a.k.a. “El Tarjetas”; a.k.a. “HERNANDEZ JIMENEZ, Francisco”; a.k.a. “Moreno”), Puerto Vallarta, Jalisco, Mexico; Estero del Cayman, Real Ixtapa, #137-A, Puerto Vallarta, Jalisco, Mexico; DOB 02 Jun 1982; alt. DOB 08 Nov 1982; alt. DOB 25 Aug 1986; alt. DOB 28 Jun 1977; POB Puerto Vallarta, Jalisco, Mexico; alt. POB Amatan, Chiapas, Mexico; nationality Mexico; Gender Male; R.F.C. VEBL860825 (Mexico); C.U.R.P. MOPJ820602HJCNNL05 (Mexico); alt. C.U.R.P. MOPJ821108HJCNNL04 (Mexico); alt. C.U.R.P. VEBL860825HJCLLS05 (Mexico); alt. C.U.R.P. HEJC770628HCSRMS06 (Mexico); Electoral Registry No. GRMRLR82012730M700 (Mexico) (individual) [ILLICIT-DRUGS-EO14059].

Dated: November 30, 2023.
Gregory T. Gatjanis,
Associate Director, Office of Foreign Assets Control, U.S. Department of the Treasury.

[FR Doc. 2023-26651 Filed 12-4-23; 8:45 am]

BILLING CODE 4810-AL-P